DEPARTMENT OF COMMERCE

Foreign-Trade Zones Board

[Order No. 1529]

Reorganization and Expansion of Foreign-Trade Zone 106; Oklahoma City, OK, Area

Pursuant to its authority under the Foreign-Trade Zones Act of June 18, 1934, as amended (19 U.S.C. 81a-81u), the Foreign-Trade Zones Board (the Board) adopts the following Order:

Whereas, the Port Authority of the Greater Oklahoma City Area, grantee of Foreign-Trade Zone 106, submitted an application to the Board for authority to reorganize and expand the zone to include sites at the ICON Center Industrial Park (Site 12) in Ada and within the Guthrie/Edmond Regional Airport (Site 13) in Guthrie and to delete Sites 5, 6, 9 and 11 from the zone plan, adjacent to the Oklahoma City Customs and Border Protection port of entry (FTZ Docket 2-2006; filed 1/30/06; amended 7/31/06, 5/16/07 and 8/9/07);

Whereas, notice inviting public comment was given in the Federal Register (71 FR 6752, 2/9/06) and the application has been processed pursuant to the FTZ Act and the Board's regulations; and,

Whereas, the Board adopts the findings and recommendations of the examiner's report, and finds that the requirements of the FTZ Act and Board's regulations are satisfied, and that the amended proposal is in the public interest;

Now, therefore, the Board hereby orders:

The amended application to reorganize and expand FTZ 106 is approved, subject to the FTZ Act and the Board's regulations, including Section 400.28, and further subject to sunset provisions that would terminate authority on October 31, 2010, for Sites 3, 4, 7 & 10 and would terminate authority on October 31, 2012, for Site 12, where no activity has occurred under FTZ procedures before those dates.

Signed at Washington, DC, this 28th day of September 2007.
Stephen J. Claeys,
Acting Assistant Secretary of Commerce for Import Administration, Alternate Chairman, Foreign-Trade Zones Board.
Attest:
Andrew McGilvray,
Executive Secretary.

[FR Doc. E7-19657 Filed 10-3-07; 8:45 am]

BILLING CODE 3510-DS-P